COMMISSION ON CIVIL RIGHTS

Sunshine Act Notice

Date and Time: Friday, November 17, 2006, 9 a.m.

Place: U.S. Commission on Civil Rights, 624 9th Street, NW., Room 540, Washington, DC 20425. The meeting is also accessible to the public through the following: Call-In Number 1-800-597-0731. Access Code Number: 43783773. Federal Relay Service: 1-800-877-8339.

Meeting Agenda

I. Approval of Agenda

II. Approval of Minutes of October 13, Meeting

III. Announcements

IV. Program Planning

• Briefing Report Benefits of Diversity in Elementary and Secondary Education

V. Management and Operations

• Orange County Voter Harassment Letter

• 2007 Business Meeting and Briefing Calendar

VI. State Advisory Committee Issues

• Recharter Package for California State Advisory Committee

VII. Future Agenda Items

VIII. Staff Director's Report

IX. Closed Meeting

IX. Adjourn*

* The Commission's scheduled briefing on Voting Rights in U.S. Territories which was to follow the business meeting was postponed.

Statement From the Presiding Officer

Closed Meeting

A closed meeting of the U.S. Commission on Civil Rights was held on Friday, November 17, 2006, at 624 Ninth Street, NW., Room 540, Washington, DC at 9 a.m. Present at the meeting were the Chairman Gerald Reynolds and Commissioners Peter Kirsanow, Jennifer Braceras and Ashley Taylor. Commissioner Arlan Melendez participated via telephone. Also present were the Staff Director, Kenneth Marcus, the General Counsel, David Blackwood, Associate Deputy Staff Director, Debra Carr, the Director of Administration, Tina Louise Martin, The Director of Administration, the Director of Human Resources, Tyro Beatty, Attorney Advisor to the Staff Director, Derek Horne, the Solicitor, Emma Monroig, and Special Assistant to Commissioner Melendez, Richard Schmechel.

A vote by the Commissioners was required to close the meeting. The vote tally was as follows; Commissioners Braceras, Kirsanow, Melendez, Taylor and Reynolds voted in the affirmative. Commissioners Abigail Thernstrom and Michael Yaki did not participate in the vote.

Closed Meeting Certification

We hereby certify that the meeting was closed and the information pertaining to the same can be withheld pursuant to the following exemptions provided for in the Commission regulations at 45 CFR 702.54:

Exemption 2 when a meeting relates to the internal personnel rules and practices of the Commission;

Exemption 5 when a meeting might involve censuring a person;

Exemption 6 when a meeting might involve disclosing information of a personal nature where disclosure might constitute a clearly unwarranted invasion of personal privacy; and

Exemption 10 when the meeting might involve the Commission's participation in a civil action or proceeding.

Dated: November 21, 2006.
David Blackwood,
General Counsel.

Emma Monroig,
Solicitor.

[FR Doc. 06-9407 Filed 11-21-06; 2:32 pm]

BILLING CODE 6335-01-P